DEPARTMENT OF AGRICULTURE

Rural Utilities Service

Great River Energy; Notice of Intent

AGENCY: Rural Utilities Service, USDA.

ACTION: Notice of intent to hold scoping meetings and prepare an environmental assessment.

SUMMARY: Notice is hereby given that the Rural Utilities Service (RUS), an agency delivering the U.S. Department of Agriculture's Rural Development Utilities Programs, pursuant to the National Environmental Policy Act (NEPA) of 1969 (42 U.S.C. 4321 et seq.), the Council on Environmental Quality (CEQ) Regulations for implementing NEPA (40 CFR Parts 1500-1508), and RUS Environmental Policies and Procedures (7 CFR Part 1794) proposes to hold two scoping meetings and prepare an Environmental Assessment (EA) for its Federal action related to a project proposed by Great River Energy (GRE) of Elk River, Minnesota. The project consists of constructing a natural gas-fired simple cycle, combustion turbine power generation facility in Cambridge Township in Isanti County, Minnesota. An alternative location for the plant is also being proposed for consideration and comment. The alternative site location is at GRE's Elk River headquarters in Sherburne County, Minnesota. Total electrical output from the facility is expected to range from 150 megawatts (MW) to 190 MW depending upon operating conditions. Construction of the project at the proposed Cambridge site would necessitate upgrading approximately 47 miles of existing 69-kilovolt (kV) transmission lines to the latest design standards. Construction at the alternative Elk River site would necessitate upgrading approximately 27 miles of existing 69-kV.

Meeting Information: RUS will conduct two scoping meetings in open House forum as follows: Tuesday, April 19, 2005, 6 p.m. to 9 p.m., Cambridge Township Hall, Isanti County Fairgrounds, 3101 Hwy 95 NE., Cambridge, MN 55008, Telephone: 763-689-3768. Wednesday, April 20, 2005, 6 p.m. to 9 p.m., Elk River Parks & Recreation, 1104 Lions Park Drive NW., Elk River, MN 55330, Telephone: 763-635-1150.

FOR FURTHER INFORMATION CONTACT: Nurul Islam, Environmental Protection Specialist, RUS, Engineering and Environmental Staff, 1400 Independence Avenue, SW., Washington, DC 20250-1571, telephone (202) 720-1414, FAX: (202) 720-0820, e-mail: nurul.islam@usda.gov; or Mark Strohfus, Environmental Project Leader, GRE, 17845 East Highway 10, P.O. Box 800, Elk River, MN 55330-0800, telephone (763) 241-2491, FAX: (763) 241-6033, e-mail: Mark Strohfus@grenergy.com.

SUPPLEMENTARY INFORMATION: GRE proposes to construct the facility in Cambridge Township in Isanti County, Minnesota. The primary purpose of the facility is to meet GRE peak electrical load during hot summer weather. Under those conditions, the facility's expected output is about 170 MW of power. The proposed project will consist of one simple cycle combustion turbine. The combustion turbine will be fueled with natural gas.

The project is proposed to be constructed at Great River Energy's existing Cambridge Peaking Plant, 2438 349th Avenue, NE. A fuel oil-fired combustion turbine rated at approximately 20 MW exists at the site and will remain in operation at the site after construction of the proposed combustion turbine. The existing peaking plant occupies roughly 11 acres south of 349th Avenue. Additional land totaling approximately seven acres may be acquired to the south and east to facilitate construction activities for the proposed combustion turbine. The proposed combustion turbine would be fueled only with natural gas. Four 69-kilovolt (kV) transmission lines are currently connected to the existing substation at the Cambridge site. Three of these lines totaling about 47 miles will be upgraded to state-of-the-art 69-kV design standards to allow the electricity from the new generator to be reliably delivered from the site.

An alternative site for the plant is also being proposed at GRE's existing facilities at 17845 East Highway 10, Elk River, Minnesota GRE's headquarters and its 40-MW Elk River Station, which is fueled with refuse-derived fuel, are at this location and would remain if the proposed plant were to be constructed at the alternative site. No additional land would be purchased if the plant were to be constructed at this location. Due to constraints on natural gas availability, a combustion turbine at the Elk River site would be equipped to fire fuel oil as a backup fuel. The generator would be connected to the Elk River Substation. Approximately 27 miles of transmission line would have to be upgraded to allow the electricity from the new generator to be reliably delivered from the site.

Alternatives to be considered by RUS and GRE include no action, purchased power, upgrade of existing resources, new transmission facilities, alternative sites, alternative routes, fossil fuel technologies, customer-owned generation, energy conservation, renewable resources, and emerging technologies.

GRE has prepared an Alternative Evaluation and Site Selection Study for the project. The Alternative Evaluation and Site Selection Study is available at GRE's Web site at http://www.greatriverenergy.com/projects/plants/proj_plants.html. The study is also available for public review at the RUS or GRE at the addresses provided in this notice or at the following locations: Cambridge Public Library, 244 South Birch St., Cambridge, MN 55008, Phone 763-689-7390. Elk River Public Library, 413 Proctor Ave., Elk River, MN 55330, Phone 763-441-1641.

Federal, state and local agencies, private organizations, and the public are invited to participate in the planning and analysis of the proposed project. Representatives from RUS and GRE will be available at the scoping meetings to discuss RUS's environmental review process, the proposed project and the alternatives being considered, the scope of the environmental issues to be considered, and answer questions. Oral and written comments will be accepted at the scoping meetings. Written comments regarding the proposed project will also be accepted for 30 days after the scoping meetings. All written comments should be sent to RUS at the address provided in this notice.

Any final action by RUS related to the proposed project will be subject to, and contingent upon, compliance with all relevant Federal environmental laws and regulations and completion of environmental review procedures as prescribed by the CEQ Regulations and RUS Environmental Policies and Procedures.

Dated: March 29, 2005.
Glendon D. Deal,
Director, Engineering and Environmental Staff, Rural Utilities Service.

[FR Doc. 05-6539 Filed 4-1-05; 8:45 am]

BILLING CODE 3410-15-P